DEPARTMENT OF COMMERCE

National Oceanic and Atmospheric Administration

RIN 0648-XA363

Marine Mammals; File No. 14352

AGENCY: National Marine Fisheries Service (NMFS), National Oceanic and Atmospheric Administration (NOAA), Commerce.

ACTION: Notice; issuance of permit amendment.

SUMMARY: Notice is hereby given that Dr. Gregory Bossart, Georgia Aquarium, 225 Baker Street, NW., Atlanta, GA 30313 has been issued a major amendment to Permit No. 14352.

ADDRESSES: The permit amendment and related documents are available for review upon written request or by appointment in the following offices:

Permits, Conservation and Education Division, Office of Protected Resources, NMFS, 1315 East-West Highway, Room 13705, Silver Spring, MD 20910; phone (301) 713-2289; fax (301) 713-0376; and

Southeast Region, NMFS, 263 13th Avenue South, Saint Petersburg, Florida 33701; phone (727) 824-5312; fax (727) 824-5309.

FOR FURTHER INFORMATION CONTACT: Carrie Hubard or Kristy Beard, (301) 713-2289.

SUPPLEMENTARY INFORMATION: On August 6, 2010, notice was published in the Federal Register (75 FR 47537) that a request for an amendment to Permit No. 14352 to conduct research on bottlenose dolphins (Tursiops truncatus) had been submitted by the above-named applicant. The requested permit amendment has been issued under the authority of the Marine Mammal Protection Act of 1972, as amended (16 U.S.C. 1361 et seq.), and the regulations governing the taking and importing of marine mammals (50 CFR part 216).

The permit has been amended to authorize research in a new study area: Charleston, South Carolina. Fifty bottlenose dolphins may be captured, sampled, and released in Charleston annually. Captured dolphins will receive a health assessment clinical workup. All captured animals will receive a roto tag. Up to ten animals per year will also receive a VHF tag. Samples will be analyzed to examine a variety of health topics such as: infectious diseases, immune status, contaminant exposure, antibiotic resistance, and genetics. An additional 400 dolphins per year may be harassed during pre- and post-capture surveys. The amended permit is valid until October 31, 2014.

In compliance with the National Environmental Policy Act of 1969 (42 U.S.C. 4321 et seq.), a final determination has been made that the activity proposed is categorically excluded from the requirement to prepare an environmental assessment or environmental impact statement.

Dated: April 6, 2011.
P. Michael Payne,
Chief, Permits, Conservation and Education Division, Office of Protected Resources, National Marine Fisheries Service.

[FR Doc. 2011-9019 Filed 4-13-11; 8:45 am]

BILLING CODE 3510-22-P